ENVIRONMENTAL PROTECTION AGENCY

[FRL-6860-2]

Regulatory Reinvention (XL) Pilot Projects

AGENCY: Environmental Protection Agency (EPA).

ACTION: Notice of Availability of Yolo County Accelerated Anaerobic & Aerobic Composting (Bioreactor) Project XL Draft Final Project Agreement.

SUMMARY: EPA is today requesting comments on a draft Project XL Final Project Agreement (FPA) for Yolo County, Woodland, California.

DATES: The period for submission of comments on the draft FPA ends on September 12, 2000.

ADDRESSES: All comments on the draft Final Project Agreement should be sent to: Ms. Sherri Walker, U.S. EPA, 1200 Pennsylvania Avenue, NW (1802), Washington, DC 20460. Comments may also be faxed to Sherri Walker at (202) 260-3125. Comments will also be received via electronic mail sent to walker.sherri@epa.gov.

FOR FURTHER INFORMATION CONTACT: To obtain a copy of the draft Final Project Agreement, contact: Mark Samolis, US EPA, Region 9 (SPE-1), 75 Hawthorne Street, San Francisco, California 94105, or Sherri Walker, US EPA, Mail Code 1802, Ariel Rios Building, 1200 Pennsylvania Avenue, NW, Washington, D.C. 20460. The FPA and related documents are also available via the Internet at the following location: “http://www.epa.gov/ProjectXL”. In addition, project documents are located at EPA Region 9, at 75 Hawthorne Street, San Francisco, California 94105. Questions to EPA regarding the documents can be directed to Mark Samolis at (415) 744-2331 or Sherri Walker at (202) 260-4295. Additional information on Project XL, including documents referenced in this notice, other EPA policy documents related to Project XL, application information, and descriptions of existing XL projects and proposals, is available via the Internet at “http://www.epa.gov/ProjectXL”.

SUPPLEMENTARY INFORMATION: The FPA is a voluntary agreement developed by Yolo County, the California Regional Water Quality Control Board, Yolo-Solano Air Quality Management District, Solid Waste Association of North America, Institute for Environmental Management, and EPA. Project XL, announced in the Federal Register on May 23, 1995 (60 FR 27282), gives regulated entities the opportunity to develop alternative strategies that will replace or modify specific regulatory requirements on the condition that they produce greater environmental benefits. If implemented, some of the superior environmental benefits that Yolo County expects to achieve with this project through anaerobic and aerobic composting process include: improved leachate quality; reduction in the potential for uncontrolled releases of leachate to contaminate the groundwater, or gas to contaminate the air during the post-closure phase (should a containment system failure occur); increased gas yield and capture; reduction or elimination of methane generation in the aerobic composting operation; rapid waste biodegradation and stabilization; increased lifespan of the landfill resulting in less need for construction of additional landfills; reduced post-closure costs; and faster reclamation of land for future use.

One of the legal implementing mechanisms for this project will be a site-specific rule. EPA expects to publish a notice in the Federal Register proposing and seeking public comment on a site-specific rule for this project shortly.

Dated: August 23, 2000.
Elizabeth A. Shaw,
Director, Office of Environmental Policy Innovation.

[FR Doc. 00-22058 Filed 8-28-00; 8:45 am]

BILLING CODE 6560-50-P